NATIONAL SCIENCE FOUNDATION

Notice of NITRD Workshop: Towards a Robust and Sustainable Open-Source Software Ecosystem for Future Wireless Research and Development

AGENCY: Networking and Information Technology Research and Development (NITRD) National Coordination Office (NCO), National Science Foundation (NSF).

ACTION: Notice of NITRD Workshop.

SUMMARY: The workshop, Towards a Robust and Sustainable Open-Source Software Ecosystem for Future Wireless Research and Development, will examine the open-source software ecosystem that supports future wireless & spectrum R&D, explore the objectives and constraints of the diverse communities that shape the direction of key OSS projects, and identify opportunities to increase collaboration between Federal R&D and OSS communities required to foster and sustain the robust open-source platforms necessary to drive future wireless innovation.

DATES: September 25, 2024.

ADDRESSES: The workshop, Towards a Robust and Sustainable Open-Source Software Ecosystem for Future Wireless Research and Development, will take place on September 25, 2024, from 8:30 a.m. to 4:30 p.m. (ET), at the NCO Office in Washington, DC.

Instructions: Due to space limitations, in-person attendance is by invitation only; remote participation will be available via Zoom. Registration is required. The agenda and registration link are available at: https://www.nitrd.gov/opensource-wireless/

Registration will close on September 24, 2024, at 5 p.m. (ET).

FOR FURTHER INFORMATION CONTACT: Mallory Hinks at (202) 459-9674 or email OS-Software-Workshop-2024@nitrd.gov. Individuals who use a telecommunications device for the deaf (TDD) may call the Federal Information Relay Service (FIRS) at 1-800-877-8339 between 8 a.m. and 8 p.m., Eastern time, Monday through Friday.

SUPPLEMENTARY INFORMATION:

Overview. This notice is issued on behalf of the NITRD Large Scale Networking (LSN) and Wireless Spectrum Research and Development (WSRD) Interagency Working Groups (IWGs). Agencies of the LSN and WSRD IWGs are conducting a workshop focused on the topic of open-source software for wireless R&D.

Background: Future wireless network architectures will transform into multi-vendor, highly disaggregated distributed systems with open interfaces operating on virtualized computing and networking environments. Emerging 5G and Open RAN architectures are the first generation of standards to embrace this transformation fully. Growing demands and emerging use cases for future wireless networks will require higher spectral efficiency, exploration of new frequency bands, increased energy efficiency, and support for new spectrum-sharing approaches. The availability of robust open-source software (OSS) will catalyze the evolution toward disaggregated and virtualized network architectures. It will fuel innovation and competition in future wireless technology and spectrum utilization. While many disjoint efforts are developing OSS for future wireless systems and supporting virtualization platforms, there is often significant diversity in the maturity of such implementations regarding alignment to standards, feature support, interoperability of distinct components, security and resilience mechanisms, and system scalability and performance. Moreover, the lack of transparency about these issues poses significant challenges to researchers and network operators in adopting current OSS implementations as the basis for future development.

Workshop Objectives. Examine the open-source software ecosystem that supports future wireless & spectrum R&D, explore the objectives and constraints of the diverse communities that shape the direction of key OSS projects, and identify opportunities to increase collaboration between Federal R&D and OSS communities required to foster and sustain the robust open-source platforms necessary to drive future wireless innovation.

Workshop sessions with invited speakers & panelists will focus on:

• Customer and sponsor perspectives on OSS requirements for future wireless & spectrum R&D Constraints and policy issues.

• The current state of the wireless OSS ecosystem.

• Emerging security and resilience requirements.

• Researcher and experimenter perspectives on leveraging OSS to support wireless & spectrum R&D.

• Increasing transparency and confidence in OSS supply chains.

Submitted by the National Science Foundation in support of the Networking and Information Technology Research and Development (NITRD) National Coordination Office (NCO) on August 15, 2024.

Suzanne H. Plimpton,
Reports Clearance Officer, National Science Foundation.

[FR Doc. 2024-18708 Filed 8-20-24; 8:45 am]

BILLING CODE 7555-01-P